DEPARTMENT OF THE TREASURY

United States Mint

Citizens Coinage Advisory Committee; Meeting

ACTION: Notification of Citizens Coinage Advisory Committee November 19, 2010 Public Meeting.

SUMMARY: Pursuant to United States Code, Title 31, section 5135(b)(8)(C), the United States Mint announces the Citizens Coinage Advisory Committee (CCAC) public meeting scheduled for November 19, 2010.

Date: November 19, 2010.

Time: 8 a.m. to 12 p.m.

Location: 8th Floor Board Room, United States Mint, 801 9th Street, NW., Washington, DC 20220.

Subject: Review and discuss reverse candidate designs for the 2011 American Eagle Platinum Coin program, reverse candidate designs for the 2011 First Spouse Coins and Medals honoring Eliza Johnson and Lucy Hayes, and the proposed theme for the 2012 Native American $1 Coin Reverse.

Interested persons should call 202-354-7502 for the latest update on meeting time and room location.

In accordance with 31 U.S.C. 5135, the CCAC:

■ Advises the Secretary of the Treasury on any theme or design proposals relating to circulating coinage, bullion coinage, Congressional Gold Medals, and national and other medals.

■ Advises the Secretary of the Treasury with regard to the events, persons, or places to be commemorated by the issuance of commemorative coins in each of the five calendar years succeeding the year in which a commemorative coin designation is made.

■ Makes recommendations with respect to the mintage level for any commemorative coin recommended.

FOR FURTHER INFORMATION CONTACT: Cliff Northup, United States Mint Liaison to the CCAC; 801 9th Street, NW., Washington, DC 20220; or call 202-354-7200.

Any member of the public interested in submitting matters for the CCAC's consideration is invited to submit them by fax to the following number: 202-756-6830.

Authority: 31 U.S.C. 5135(b)(8)(C).

Dated: November 10, 2010.
Edmund C. Moy,
Director, United States Mint.

[FR Doc. 2010-28862 Filed 11-16-10; 8:45 am]

BILLING CODE P